SUSQUEHANNA RIVER BASIN COMMISSION

Grandfathering Registration Notice

AGENCY: Susquehanna River Basin Commission.

ACTION: Notice.

SUMMARY: This notice lists Grandfathering Registration for projects by the Susquehanna River Basin Commission during the period set forth in DATES.

DATES: January 1-February 28, 2025.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.gov. Regular mail inquiries may be sent to the above address.

SUPPLEMENTARY INFORMATION: This notice lists GF Registration for projects, described below, pursuant to 18 CFR part 806, subpart E, for the time period specified above:

1. Heidelberg Materials Northeast LLC—Milton Quarry, GF Certificate No. GF-202501287, Liberty and Limestone Townships, Montour County, Pa.; consumptive use; Issue Date: January 30, 2025.

2. Commonwealth University of Pennsylvania—Mansfield University, GF Certificate No. GF-202502288, Borough of Mansfield, Tioga County, Pa.; Corey Creek Reservoir and consumptive use; Issue Date: February 14, 2025.

3. Hershey Entertainment & Resorts Company—Hershey Country Club, GF Certificate No. GF-202502289, Derry Township, Dauphin County, Pa.; King Gap Well, Spring Creek, and consumptive use; Issue Date: February 18, 2025.

Authority: Public Law 91-575, 84 Stat. 1509 et seq., 18 CFR parts 806 and 808.

Dated: March 7, 2025.
Jason E. Oyler,
General Counsel and Secretary to the Commission.

[FR Doc. 2025-03917 Filed 3-11-25; 8:45 am]

BILLING CODE 7040-01-P